DEPARTMENT OF AGRICULTURE

Forest Service

Travel Management Supplemental Environmental Impact Statement (SEIS), Eldorado National Forest, El Dorado County, CA

AGENCY: Forest Service, USDA.

ACTION: Notice of intent to prepare a supplemental environmental impact statement.

SUMMARY: In March 2008, the U.S. Forest Service completed the Eldorado National Forest Public Wheeled Motorized Travel Management Final Environmental Impact Statement (ENF TM FEIS) and Record of Decision (ROD). The 2008 TM FEIS and ROD designated roads and trails to be open for public motor vehicle use and prohibited cross country travel. In 2009 a complaint was filed with the Eastern District Federal Court (Court Case No. 2:09-CV-02523-LKK-JFM). In its opinion dated May 26, 2011, the Court found the Forest Service failed to comply with the National Forest Management Act (“NFMA”) in connection with its analysis and designation of routes encountering meadows. In particular, the court found that the Forest Service had designated 42 routes through meadows which was inconsistent with certain standards and guidelines in both the Forest's 1989 Land and Resource Management Plan (LRMP) and standards and guidelines within the 2004 Sierra Nevada Forest Plan Amendment (SNFPA), which amended the ENF LRMP. The Court pointed out that the error in the agency's Travel Management Decision was limited to 42 routes designated for public wheeled motorized travel that have some segment(s) that go through meadows.

The purpose of the current analysis is to comply with the subsequent court order to reconsider that portion of the Travel Management Decision that pertains to the Riparian Conservation Objective (RCO) #2 for Standard and Guideline #100 pertaining to the meadows on the 42 routes, and to determine whether public wheeled motor vehicle use will be allowed on the portions of those routes that were closed by Court Order.

DATES: Comments concerning the scope of the analysis must be received by November 7, 2012. The draft Supplemental Environmental Impact Statement (DSEIS) is expected in December 2012, and the final Supplemental Environmental Impact Statement (SEIS) is expected in July, 2013.

ADDRESSES: Send written comments to Kathryn Hardy, Forest Supervisor, Eldorado National Forest, 100 Forni Road, Placerville, CA 95667, Attention: Travel Management SEIS.

FOR FURTHER INFORMATION CONTACT: Diana Erickson, TM SEIS Project Leader, 100 Forni Road, Placerville, CA 95667, or by telephone at 530-621-5214. More detailed information about the project may also be found at http://www.fs.usda.gov/eldorado/.

SUPPLEMENTARY INFORMATION:

Purpose and Need for Action

There is a need for compliance with the United States District Court for the Eastern District of California Case No. 2:09-CV-02523-LKK-JFM, Court Order filed 07/31/12 in which the Court “set aside and remanded for reconsideration in light of the applicable law that portion of the Forest Service's Final Environmental Impact Statement relating to the Riparian Conservation Objective (“RCO”) Analysis for RCO #2 Standards and Guidelines #100 pertaining to the meadows on the 42 routes.”

There is a need for determining whether public wheeled motor vehicle use will be allowed on the portions of the 42 specific routes designated for such use in the Eldorado National Forest Public Wheeled Motorized Travel Management EIS Record of Decision, March 2008 that were found by the court to be inconsistent with the ENF LRMP Standards and Guidelines, as amended by SNFPA.

Proposed Action

The Forest Service proposes the following designations for the portions of the 42 routes that were closed by Court Order:

1. Designate for public motorized use 9 routes that field surveys conducted in 2011 and 2012 determined did not cross meadows, as defined in the 1988 ENF LRMP.

2. Designate for public motorized use 12 routes where field surveys determined the meadow crossings meet Standard and Guideline (S&G) No. 100.

3. Designate for public motorized use a portion of one route where the field survey determined a logical closure point before crossing a meadow.

4. Amend the Eldorado National Forest Plan as amended by SNFPA S&G No. 100 to allow continued public motorized use on 19 routes that field surveys determined to not currently meet S&G 100, and are needed to meet other purposes, and designate those routes for public motorized use.

5. Amend the Eldorado National Forest Plan as amended by SNFPA S&G 100 to allow continued public motorized use on a portion of one route up to a logical closure point after the main destination before crossing additional meadows that the field survey determined to not meet S&G 100, and designate that portion for public motorized use.

Responsible Official

Kathyrn D. Hardy, Forest Supervisor of the Eldorado National Forest will be the Responsible Official for the project.

Nature of Decision To Be Made

The decision to be made is whether to adopt and implement the proposed action, an alternative to the proposed action, or take no action to address the 42 routes.

Scoping Process

This notice of intent initiates the scoping process, which guides the development of the environmental impact statement.

It is important that the reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed aciton. Comments submitted anonymously will be accepted and considered, however.

Three public Informational Open Houses will be held:

Monday, October 22, 2012 (4:00 p.m. to 7:00 p.m.) at Turtle Rock Community Center, 17300 State Route 89, Markleeville, CA;

Thursday, October 25, 2012 (3:00 p.m. to 8:00 p.m.) at Placerville Inn, Best Western, 6850 Greenleaf Drive, Placerville, California; and

Monday, October 29, 2012 (3:00 p.m. to 8:00 p.m.) at the Jackson Civic Center, 33 Broadway, Jackson, California.

Dated: October 4, 2012.
Kathryn D. Hardy,
Forest Supervisor.

[FR Doc. 2012-25100 Filed 10-11-12; 8:45 am]

BILLING CODE 3410-11-P